ENVIRONMENTAL PROTECTION AGENCY

40 CFR Part 300

[FRL-6525-1]

National Oil and Hazardous Substances Pollution Contingency Plan; National Priorities List

AGENCY: Environmental Protection Agency.

ACTION: Proposed deletion of the Katonah Municipal Well site from the National Priorities List.

SUMMARY: The Environmental Protection Agency (EPA) proposes to delete the Katonah Municipal Well site (Site), which is located in the Town of Bedford, Westchester County, New York, from the National Priorities List (NPL) and requests public comment on this action. The NPL constitutes appendix B of 40 CFR part 300 which is the National Oil and Hazardous Substances Pollution Contingency Plan (NCP), which EPA promulgated pursuant to section 105 of the Comprehensive Environmental Response, Compensation, and Liability Act of 1980 (CERCLA) as amended, 42 U.S.C. 9601 et seq. EPA and the New York State Department of Environmental Conservation have determined that the Site poses no significant threat to public health or the environment, as defined by CERCLA; and therefore, further remedial measures pursuant to CERCLA are not appropriate.

We are publishing a direct final action along with this proposed deletion without prior proposal notice because the Agency views this as a noncontroversial revision and anticipates no significant adverse or critical comments. A detailed rationale for this approval is set forth in the direct final rule. If no significant adverse or critical comments are received, no further activity is contemplated. If EPA receives significant adverse or critical comments, the direct final action will be withdrawn and all public comments received will be addressed in a subsequent final rule based on this proposed rule. The EPA will not institute a second comment period. Any parties interested in commenting should do so at this time.

DATES: Comments concerning this Action must be received by February 18, 2000.

ADDRESSES: Comments should be submitted to Damian J. Duda, Remedial Project Manager, Emergency and Remedial Response Division, U.S. Environmental Protection Agency, Region II, 290 Broadway, 20th Floor, New York, New York 10007-1866.

Comprehensive information on this Site is available through the public docket contained at: U.S. Environmental Protection Agency, Region II, Superfund Records Center, 290 Broadway, Room 1828, New York, New York 10007-1866, (212) 637-4308, Hours: 9:00 AM to 5:00 PM, Monday through Friday.

Information on the Site is also available for viewing at the following information repository: Katonah Village Library, 28 Bedford Road, Katonah, New York 10536, (914) 232-3508.

FOR FURTHER INFORMATION CONTACT: Mr. Duda may be contacted at the above address, by telephone at (212) 637-4270, by FAX at (212) 637-3966 or via e-mail at duda.damian@epa.gov

SUPPLEMENTARY INFORMATION: For additional information, see the Direct Final action which is located in the Rules section of this Federal Register.

Authority: 42 U.S.C. 9601-9657; 33 U.S.C. 1321(c)(2); E.O. 12777, 56 FR 54757, 3 CFR, 1991 Comp.; p.351; E.O. 12580, 52 FR 2923, 3 CFR, 1987 Comp.; p. 193.

Dated: January 3, 2000.
William J. Muszynski,
Acting Regional Administrator, Region 2.

[FR Doc. 00-1085 Filed 1-18-00; 8:45 am]

BILLING CODE 6560-50-P